DEPARTMENT OF TRANSPORTATION

Federal Aviation Administration

[Docket No. FAA-2009-0671]

Agency Information Collection Activities: Requests for Comments; Clearance of Renewed Approval of Information Collection: Safety Management Systems for Domestic, Flag, and Supplemental Operations Certificate Holders

AGENCY: Federal Aviation Administration, DOT.

ACTION: Notice and request for comments.

SUMMARY: In accordance with the Paperwork Reduction Act of 1995, the Federal Aviation Administration (FAA) invites public comments about our intention to request Office of Management and Budget (OMB) approval to renew an information collection. The collection involves information on a Domestic, Flag, and Supplemental Operations certificate holder's Safety Management System (SMS). The certificate holder collects information to determine and identify hazards in an aviation operation, measure the effectiveness of hazard identification and mitigation and the prevention unforeseen hazards, and the maintenance of training records and communications documentation used to promote safety. This collection by Domestic, Flag, and Supplemental Operations certificate holders is for compliance with FAA SMS requirements. The Federal Register Notice with a 60-Day comment period soliciting comments on the renewal of this previously approved information collection was published on June 20, 2018 (83 FR 28758). No comments were received.

DATES: Comments must reach OMB on or before October 17, 2018.

ADDRESSES: Interested persons are invited to submit written comments on the proposed information collection renewal to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for the FAA's performance; (b) the accuracy of the estimated burden; (c) ways for the FAA to enhance the quality, utility and clarity of the information collection; and (d) ways that the burden could be minimized without reducing the quality of the collected information. The agency will summarize and/or include your comments in the request for OMB's clearance of this information request.

FOR FURTHER INFORMATION CONTACT: Barbara Hall by email at: Barbara.L.Hall@faa.gov; phone: (940) 594-5913.

SUPPLEMENTARY INFORMATION:

OMB Control Number: 2120-0763.

Title: Safety Management Systems for Domestic, Flag, and Supplemental Operations Certificate Holders.

Form Numbers: None.

Type of Review: Renewal of an information collection with changes.

Background: The ongoing information collection requirement for Domestic, Flag, and Supplemental Operations certificate holders supports the regulatory requirements of an SMS program to determine and identify hazards in an aviation operation, measure the effectiveness of hazard identification and mitigation and the prevention unforeseen hazards, and the maintenance of training records and communications documentation used the promote safety.

Respondents: All Domestic, Flag, and Supplemental Operations certificate holders.

Implementation plan collection: 3 future applicants for a Domestic, Flag, and Supplemental Operations certificate (anticipate no more than one per year).

Continuing SMS program collection: 72 current Domestic, Flag, and Supplemental Operations certificate holders.

Frequency:

Implementation plan collection: Yearly responses for the 3 future applicants.

Continuing SMS program collection: Monthly responses for the 72 current Domestic, Flag, and Supplemental Operations certificate holders.

Number of Responses:

Implementation plan collection: 1 future applicant per year submitting yearly responses would total 6 responses over the three year period. (1 new applicant in the first year × 3 responses + 1 applicant in second year × 2 responses + 1 applicant in the third year × 1 response).

Continuing SMS program collection: 72 current Domestic, Flag, and Supplemental Operations certificate holders × 12 responses = 864 responses per year.

Total Annual Burden:

Implementation plan collection: Total burden for new applicants estimated to be 20,040 hours or 6,680 hours per year.

Continuing SMS program collection: As of March 9, 2018, all current Domestic, Flag, and Supplemental Operations certificate holders were validated as having an SMS in compliance with FAA Certification and Safety Management System requirements. Therefore, all implementation plans have been completed and will, therefore, have no continuing burden on current Domestic, Flag, and Supplemental Operations certificate holders.

Authority: The Paperwork Reduction Act of 1995; 44 U.S.C. chapter 35, as amended; and 49 CFR 1:48.

Issued in Washington, DC, on September 8, 2018.
Barbara L. Hall,
FAA Information Collection Clearance Officer, IT Enterprises Business Services Division, ASP-110.

[FR Doc. 2018-20145 Filed 9-14-18; 8:45 am]

BILLING CODE 4910-13-P